DEPARTMENT OF COMMERCE

National Oceanic and Atmospheric Administration

Caribbean Fishery Management Council; Public Meeting

AGENCY: National Marine Fisheries Service (NMFS), National Oceanic and Atmospheric Administration (NOAA), Commerce.

ACTION: Notice of public meeting.

SUMMARY: The Caribbean Fishery Management Council's Administrative Committee will hold a meeting.

DATES: The meeting will be held on July 31, 2012, from 10:30 a.m. to 4 p.m.

ADDRESSES: The meeting will be held at the Doubletree by Hilton San Juan Hotel, 105 De Diego Avenue, San Juan, Puerto Rico 00911.

FOR FURTHER INFORMATION CONTACT: Caribbean Fishery Management Council, 268 Muñoz Rivera Avenue, Suite 1108, San Juan, Puerto Rico 00918-1920, telephone: (787) 766-5926.

SUPPLEMENTARY INFORMATION: The Caribbean Fishery Management Council's Administrative Committee will hold a meeting to discuss the items contained in the following agenda:

July 31, 2012—10:30 a.m. to 4 p.m.

• Call to Order

• Adoption of Agenda

• Budget Status

• Personnel Matters—New Staff Position(s)

• Scientific and Statistical Committee/Advisory Panel Membership

• Other Business

The meeting is open to the public, and will be conducted in English. Fishers and other interested persons are invited to attend and participate with oral or written statements regarding agenda issues.

Although non-emergency issues not contained in this agenda may come before this group for discussion, those issues may not be subjects for formal action during this meeting. Actions will be restricted to those issues specifically identified in this notice, and any issues arising after publication of this notice that require emergency action under section 305(c) of the Magnuson-Stevens Fishery Conservation and Management Act, provided that the public has been notified of the Council's intent to take final action to address the emergency.

Special Accommodations

This meeting is physically accessible to people with disabilities. For more information or request for sign language interpretation and/other auxiliary aids, please contact Mr. Miguel A. Rolón, Executive Director, Caribbean Fishery Management Council, 268 Muñoz Rivera Avenue, Suite 1108, San Juan, Puerto Rico, 00918-1920; telephone: (787) 766-5926, at least 5 days prior to the meeting date.

Dated: July 5, 2012.
Tracey L. Thompson,
Acting Director, Office of Sustainable Fisheries, National Marine Fisheries Service.

[FR Doc. 2012-16800 Filed 7-9-12; 8:45 am]

BILLING CODE 3510-22-P